DEPARTMENT OF COMMERCE

Foreign-Trade Zones Board

[Order No. 1349]

Grant of Authority for Subzone Status; Festo Corporation (Pneumatic Industrial Automation Products), Hauppauge, NY

Pursuant to its authority under the Foreign-Trade Zones Act of June 18, 1934, as amended (19 U.S.C. 81a-81u), the Foreign-Trade Zones Board (the Board) adopts the following Order:

Whereas, by an Act of Congress approved June 18, 1934, an Act “To provide for the establishment * * * of foreign-trade zones in ports of entry of the United States, to expedite and encourage foreign commerce, and for other purposes,” as amended (19 U.S.C. 81a-81u) (the FTZ Act), the Foreign-Trade Zones Board (the Board) is authorized to grant to qualified corporations the privilege of establishing foreign-trade zones in or adjacent to U.S. Customs ports of entry;

Whereas, the Board's regulations (15 CFR part 400) provide for the establishment of special-purpose subzones when existing zone facilities cannot serve the specific use involved, and when the activity results in a significant public benefit and is in the public interest;

Whereas, an application from Suffolk County, New York, grantee of FTZ 52, for authority to establish special-purpose subzone status for the pneumatic industrial automation (“fluid power”) components manufacturing facilities of Festo Corporation, in Hauppauge, New York, was filed by the Board on June 23, 2003, and notice inviting public comment was given in the Federal Register (FTZ Docket 32-2003, 68 FR 39509, 7-2-2003); and,

Whereas, the Board adopts the findings and recommendations of the examiner's report, and finds that the requirements of the FTZ Act and Board's regulations would be satisfied, and that approval of the application would be in the public interest if approval were subject to restriction;

Now, Therefore, the Board hereby grants authority for subzone status at the pneumatic industrial automation (“fluid power”) components manufacturing facilities of Festo Corporation, in Hauppauge, New York (Subzone 52A), at the locations described in the application, subject to the FTZ Act and the Board's regulations, including Section 400.28, and further subject to the following restrictions: (1) All foreign-origin steel mill products must be admitted under privileged foreign status (19 CFR 146.41) or domestic status (19 CFR 146.43); (2) All foreign-origin textile mill products must be admitted under privileged foreign status or domestic status; and, (3) Festo will submit supplemental annual report data for FTZ Staff monitoring purposes.

Signed at Washington, DC, this 27th day of August 2004.
James J. Jochum,
Assistant Secretary of Commerce for Import Administration, Alternate Chairman, Foreign-Trade Zones Board.

[FR Doc. 04-20155 Filed 9-2-04; 8:45 am]

BILLING CODE 3510-DS-P